DEPARTMENT OF THE TREASURY

Agency Information Collection Activities; Submission for OMB Review; Comment Request; Multiple Internal Revenue Service Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before June 26, 2020 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

Internal Revenue Service (IRS)

1. Title: Application To Use Last In, First Out (LIFO) Inventory Method.

OMB Control Number: 1545-0042.

Type of Review: Extension without change of a currently approved collection.

Description: Form 970 is filed by individuals, partnerships, trusts, estates, or corporations to elect to use the LIFO inventory method or to extend the LIFO method to additional goods. The Internal Revenue Service uses Form 970 to determine if the election was properly made.

Form: Form 970.

Affected Public: Business or other for-profit organizations, and individuals or households.

Estimated Number of Respondents: 2,000.

Frequency of Response: On occasion.

Estimated Total Number of Annual Responses: 2,000.

Estimated Time per Response: 21 hours, 6 minutes.

Estimated Total Annual Burden Hours: 42,220.

2. Title: Requirements for qualified domestic trust.

OMB Control Number: 1545-1443.

Type of Review: Extension without change of a currently approved collection.

Description: The regulation provides guidance relating to the additional requirements necessary to ensure the collection of the estate tax imposed under Section 2056A(b) with respect to taxable events involving qualified domestic trusts (QDOT'S). In order to ensure collection of the tax, the regulation provides various security options that may be selected by the trust and the requirements associated with each option. In addition, under certain circumstances the trust is required to file an annual statement with the IRS disclosing the assets held by the trust.

Form: None.

Affected Public: Individuals or Households.

Estimated Number of Respondents: 4,390.

Frequency of Response: On occasion.

Estimated Total Number of Annual Responses: 4,390.

Estimated Time per Response: 1 hour, 23 minutes.

Estimated Total Annual Burden Hours: 6,070 hours.

3. Title: Wage and Investment Strategies and Solutions Behavioral Laboratory Customer Surveys and Support.

OMB Control Number: 1545-2274.

Type of Review: Extension without change of a currently approved collection.

Description: As outlined in the IRS Strategic Plan, the Agency is working towards allocating IRS resources strategically to address the evolving scope and increasing complexity of tax administration. In order to do this, the IRS must realize their operational efficiencies and effectively manage costs by improving enterprise-wide resource allocation and streamlining processes using feedback from various behavioral research techniques.

To assist the Agency in accomplishing the goal outlined in the Strategic Plan, the Wage and Investment Division continuously maintains a “customer-first” focus through routinely soliciting information concerning the needs and characteristics of its customers and implementing programs based on the information received. W&I Strategies and Solutions (WISS), is developing the implementation of a Behavioral Laboratory to identify, plan and deliver business improvement processes that support fulfillment of the IRS strategic goals.

The collection of information through the Behavioral Laboratory is necessary to enable the Agency to garner customer and stakeholder feedback in an efficient, timely manner, in accordance with the commitment to improving taxpayer service delivery. Improving agency programs requires ongoing assessment of service delivery. WISS, through the Behavioral Laboratory, will collect, analyze, and interpret information gathered through this generic clearance to identify strengths and weaknesses of current services and make improvements in service delivery based on feedback provided by taxpayers and IRS employees.

Form: None.

Affected Public: Business or other for-profit organizations and individuals or households.

Estimated Number of Respondents: 150,000.

Frequency of Response: On occasion.

Estimated Total Number of Annual Responses: 150,000.

Estimated Time per Response: 1 hour.

Estimated Total Annual Burden Hours: 150,000 hours.

(Authority: 44 U.S.C. 3501 et seq.)

Dated: May 21, 2020.
Spencer W. Clark,
Treasury PRA Clearance Officer.

[FR Doc. 2020-11349 Filed 5-26-20; 8:45 am]

BILLING CODE 4830-01-P